OFFICE OF THE UNITED STATES TRADE REPRESENTATIVE

Agreement on Government Procurement: Effective Date of Amendments for the Netherlands With Respect to Aruba

AGENCY: Office of the United States Trade Representative.

ACTION: Notice.

SUMMARY: For the purpose of U.S. Government procurement that is covered by Title III of the Trade Agreements Act of 1979, the effective date of the Protocol Amending the Agreement on Government Procurement, done at Geneva on 30 March 2012, World Trade Organization (WTO), for the Netherlands with respect to Aruba (Aruba) is October 31, 2014.

DATES: Effective Date: October 31, 2014.

ADDRESSES: Office of the United States Trade Representative, 600 17th Street NW., Washington DC 20508.

FOR FURTHER INFORMATION CONTACT: Scott Pietan ((202) 395-9646), Director of International Procurement Policy, Office of the United States Trade Representative, 600 17th Street, NW., Washington DC 20508.

SUPPLEMENTARY INFORMATION: Executive Order 12260 (December 31, 1980) implements the 1979 and 1994 Agreement on Government Procurement, pursuant to Title III of the Trade Agreements Act of 1979 as amended (19 U.S.C. 2511-2518). In section 1-201 of Executive Order 12260, the President delegated to the United States Trade Representative the functions vested in the President by sections 301, 302, 304, 305(c) and 306 of the Trade Agreements Act of 1979 (19 U.S.C. 2511, 2512, 2514, 2515(c) and 2516).

The Protocol Amending the Agreement on Government Procurement, done at Geneva on 30 March 2012 (“Protocol”), entered into force on April 6, 2014 for the United States and the following Parties: Canada, Chinese Taipei, Hong Kong, Israel, Liechtenstein, Norway, European Union, Iceland, and Singapore. See Federal Register 2014-05719. The Protocol entered into force on April 16, 2014 for Japan. See Federal Register 2014-08927.

The Protocol provides that following its entry into force, the Protocol will enter into force for each additional Party to the 1994 Agreement 30 days following the date on which the Party deposits its instrument of acceptance. On June 4, 2014, Aruba deposited its instrument of acceptance to the Protocol. Effective October 31, 2014 for Aruba, all references in Title III of the Trade Agreement Act of 1979 and in Executive Order 12260 to the Agreement on Government Procurement shall refer to the 1994 Agreement as amended by the Protocol.

With respect to those Parties which have not deposited their instruments of acceptance, all references in Title III of the Trade Agreement Act of 1979 and in Executive Order 12260 to the Agreement on Government Procurement shall continue to refer to the 1994 Agreement until 30 days following the deposit by such Party of its instrument of acceptance of the Protocol.

For the full text of the Government Procurement Agreement as amended by the Protocol and the new annexes that set out the procurement covered by all of the Government Procurement Agreement Parties, see GPA-113: http://www.ustr.gov/sites/default/files/GPA%20113%20Decision%20on%20the%20outcomes%20of%20the%20negotiations%20under%20Article%20XXIV%207.pdf.

Michael B.G. Froman,
United States Trade Representative.

[FR Doc. 2014-24415 Filed 10-14-14; 8:45 am]

BILLING CODE 3290-F5-P